SMALL BUSINESS ADMINISTRATION

[Declaration of Disaster No. P007, Amdt. No. 1]

State of Tennessee

In accordance with a notice received from the Department of Homeland Security—Federal Emergency Management Agency, effective April 14, 2003, the above numbered declaration is hereby amended to include Hardin and Lauderdale Counties in the State of Tennessee as disaster areas due to damages caused by severe storms and flooding occurring from February 14, 2003 and continuing through February 26, 2003.

All other information remains the same, i.e., the deadline for filing applications for physical damage is May 19, 2003.

(Catalog of Federal Domestic Assistance Program Nos. 59008)
Dated: April 15, 2003.
Herbert L. Mitchell,
Associate Administrator for Disaster Assistance.

[FR Doc. 03-9798 Filed 4-18-03; 8:45 am]

BILLING CODE 8025-01-P